DEPARTMENT OF HEALTH AND HUMAN SERVICES

Food and Drug Administration

[Docket No. FDA-2020-N-0008]

Ophthalmic Devices Panel of the Medical Devices Advisory Committee: Notice of Meeting; Postponement

AGENCY: Food and Drug Administration, HHS.

ACTION: Notice of meeting; postponement.

SUMMARY: The Food and Drug Administration (FDA) is postponing the meeting of the Ophthalmic Devices Panel of the Medical Devices Advisory Committee scheduled for June 9, 2020. The meeting was announced in the Federal Register of April 1, 2020. FDA, like other government agencies, is taking the necessary steps to ensure the Agency is prepared to continue our vital public health mission in the event that our day-to-day operations are impacted by the COVID-19 public health emergency. Therefore, we are postponing this meeting and will reassess on an ongoing basis for future months. A future meeting date will be announced in the Federal Register.

FOR FURTHER INFORMATION CONTACT: Aden Asefa, Center for Devices and Radiological Health, Food and Drug Administration, 10903 New Hampshire Ave., Bldg. 66, Rm. 5214, Silver Spring, MD 20993-0002, Aden.Asefa@fda.hhs.gov, 301-796-0400, or FDA Advisory Committee Information Line, 1-800-741-8138 (301-443-0572 in the Washington, DC area) and follow the prompts to the desired center or product area. Please call the Information Line for up-to-date information on this meeting.

SUPPLEMENTARY INFORMATION: The meeting of the Ophthalmic Devices Panel of the Medical Devices Advisory Committee was originally announced in the Federal Register of April 1, 2020 (85 FR 18249), and was initially scheduled for June 9, 2020. FDA continues to evaluate whether and how to proceed with upcoming scheduled meetings while our day-to-day operations are impacted by the COVID-19 public health emergency, and we have decided to postpone this public meeting until further notice.

Dated: April 27, 2020.
Lowell J. Schiller,
Principal Associate Commissioner for Policy.

[FR Doc. 2020-09232 Filed 4-29-20; 8:45 am]

BILLING CODE 4164-01-P